DEPARTMENT OF HEALTH AND HUMAN SERVICES

Administration on Aging

[Program Announcement No. AoA-02-08]

Fiscal Year 2002 Program Announcement; Availability of Funds and Notice Regarding Applications

AGENCY: Administration on Aging, HHS.

ACTION: Extension of deadline to apply for funds under the Older Americans Act, Title VI, Grants for Native Americans, Part A—Indian Program, stated in the Federal Register Program Announcement dated September 17, 2001.

SUMMARY: Because of continuing needs of Tribal elders, the Administration on Aging is extending the date for which the Title VI grant applications for the grant period April 1, 2002-March 31, 2005 are due. Applications will be accepted from Tribes with grants that ended on March 31, 2002. Please note, since the Older Americans Act allows only one grant per Tribal organization, the program announcement applies only to Tribes that did not receive a grant under the program announcement of September 17, 2001.

DATES: The deadline date for the submission of applications is June 20, 2002.

ADDRESSES: Application kits are available by writing to the U.S. Department of Health and Human Services, Administration on Aging, Yvonne Jackson, Director, Office for American Indian, Alaska Native and Native Hawaiian Programs, 330 Independence Ave., SW., Washington, DC 20201 or by calling 202/619-2713. Applications must be postmarked on or before June 20, 2002. An original and two copies of the application are to be mailed to Margaret Tolson, Director, Office of Grants Management, 330 Independence Ave., SW., Washington, DC 20201.

Dated: May 15, 2002.
Josefina G. Carbonell,
Assistant Secretary for Aging.

[FR Doc. 02-12679 Filed 5-20-02; 8:45 am]

BILLING CODE 4154-01-P